DEPARTMENT OF HEALTH AND HUMAN SERVICES

Administration for Children and Families

The Data Measures, Data Composites, and National Standards To Be Used in the Child and Family Services Reviews; Corrections

AGENCY: Children's Bureau, Administration on Children, Youth and Families, Administration for Children and Families, Department of Health and Human Services.

ACTION: Notice; corrections.

SUMMARY: The Administration for Children and Families (ACF) published a notice in the Federal Register of June 7, 2006 (Vol. 71, No. 109), pages 32969-32987, presenting the data measures, data composites, and national standards to be used in the Child and Family Services Review (CFSR). This notice provides corrections to this notice. A consolidated version of the June 7 Federal Register Announcement incorporating these corrections is provided on the Children's Bureau's Web site (address). The following are the key changes in the document and the reasons for the changes:

• There are new specifications for each of the individual measures included in each composite. After publication of the June 7, Federal Register Announcement, ACF conducted trainings on the CFSR data indicators at each of the 10 ACF Regional Offices. The trainings were provided to key administrators and staff of State child welfare agencies. During these trainings, issues were identified and questions were raised regarding the individual measures included in the composite. After reviewing these issues and questions, ACF determined that more specific information about the measures was needed and that some measures required revision in order to better target the outcome being assessed. The increased specification includes using the precise terminology that is used in the Adoption and Foster Care Analysis and Reporting System (AFCARS) and describing in greater detail the children who are in the denominator and numerator of each measure. The revisions to some of the measures required changes in the syntax used to calculate the measures.

• There is a new definition of foster parent used by the National Child Abuse and Neglect Data System (NCANDS). The change was made in this definition because the definition of a foster parent used by NCANDS was recently revised.

• There is a new version of the table of ranges, percentiles, and national standards for the data indicators and measures to be used in the second round of the Child and Family Services Review. This table replaces the Table 1 provided in the June 7, 2006 Federal Register. It was revised to reflect new data and new national standards for all of the CFSR data indicators. The data in the table and the national standards for all of the data indicators and measures are different than those presented in the June 7 Federal Register notice. This difference is due to one or both of the following reasons: (1) A change in the syntax for calculating some of the measures, and (2) a change in the process for calculating the national standards. The reason for the change in the procedures for calculating the national standards is provided in the following bullet.

• There are revisions and corrections to Attachment B: Methodology for Developing the Composites. The revisions in Attachment B were made to (1) correct an error in the original attachment B, (2) provide the new coefficients (weights) for the composite measures that resulted from the changes in the syntax, and (3) explain the new procedure for calculating the national standards. The error in the original attachment B occurred in Step 10 of the process of calculating the composite scores. The new coefficients (weights) for each of the measures included in the composites are presented in Table 1 of the attachment—Coefficients (Weights) for the Measures Included in the Permanency Related Data Composites. The coefficients/weights changed due to changes in the syntax used to calculate some of the individual measures. The new procedure for calculating the national standards involved changes in the statistical requirements for fitting the data to a normal curve and to changes in the parameters used in calculating the sampling error.

Correction 1

In the Federal Register of June 7, 2006, the text beginning on page 32974, column 1, Section Heading B (CFSR Composites and Measures That will be Used as Part of the Assessment of a State's Substantial Conformity with CFSR Permanency Outcome 1—Children have permanency and stability in their living situations) should be replaced with the specifications presented below for the individual measures included in each composite. The new specifications increase the precision of the measures and address requests for clarification by participants of several training sessions focusing on the data indicators. In some instances, increasing precision involved changes to the syntax used to calculate performance on the measure.

Specifications of Individual Measures Included in Each Composite

The following provides specifications of the individual measures included in each data composite used to evaluate State performance for the second round of the CFSR. More detailed specifications are provided in a “pseudo code” as well as the SPSS syntax, both of which will be made available on the Web site of the National Resource Center for Child Welfare Data Technology (http://www.nrccwdt.org/). All measures included in the composites are derived from data reported to AFCARS. The AFCARS data set used to calculate the measures excludes children who are 18 years of age or older on the first day of the CFSR “12-month target period.” The term “12-month target period” refers to the primary timeframe for which a State is assessed under the CFSR. Depending upon the time of its CFSR, a State's 12-month target period may include either the combination of an AFCARS A file (the first 6 months of a fiscal year) and B file (the second 6 months of a fiscal year), or it may include the combination of an AFCARS B file (the second 6 months of a fiscal year) and A file (the first 6 months of the subsequent fiscal year). The 12-month target period used for establishing the national standards was fiscal year (FY) 2004.

Composite 1: Timeliness and Permanency of Reunification

For the CFSR data measures, reunification occurs if the child is reported to AFCARS as discharged from foster care and the reason for discharge is either “reunification with parents or primary caretakers” or “living with other relatives.” Children who are reported to AFCARS as discharged to a legal guardianship are not included in the count of reunifications, even if the legal guardian to whom the child is discharged is a relative. If the relative is a legal guardian, the discharge reason of “guardianship” is to be used in the AFCARS submission.

Component A: Timeliness of Reunification

The measures for the Timeliness of reunification component include an adjustment to account for State policies or practices in which children are reunified but the State continues to have care and supervision responsibilities for a period of time before discharging the child from foster care. This is referred to as the “Trial Home Visit adjustment.”

A child is eligible for the trial home visit adjustment if all of the following criteria are met:

• The child has a date of discharge from foster care that occurs during the 12-month target period and the reason for discharge is either “reunification with parents or caretakers” or “living with other relatives;”

• At the time of discharge from foster care, the child is in a “current placement setting” of “Trial Home Visit,” and

• At the time of discharge from foster care, the child had been in the placement setting of trial home visit for longer than 30 days.

If these criteria are met, the child's calculated length of stay in foster care prior to reunification or live with relative is determined in the following way: First, the number of days between the child's latest removal from home and the date of placement in the trial home visit setting is determined. Then, 30 days are added to that number of days to provide the calculated “length of stay in foster care” prior to reunification.

Individual Measure C1.1: Of all children who were discharged from foster care to reunification in the target 12-month period, and who had been in foster care for 8 days or longer, what percent were reunified in less than 12 months from the date of the latest removal from home?

The denominator for this measure includes children who meet all of the following criteria:

• The child is in foster care for 8 days or longer;

• The child's date of discharge from foster care occurs during the 12-month target period; and

• The child has a reason for discharge, and the reason is either “reunification with parents or primary caretakers” or “living with other relatives.”

The numerator for this measure includes children who meet all of the criteria for inclusion in the denominator and also meet one of the following criteria:

• The child's date of discharge from foster care occurs less than 12 months from the date of the latest removal from home; or

• Using the Trial Home Visit adjustment, the child's “length of stay” in foster care is less than 12 months from the date of the child's latest removal from home.

Individual Measure C1.2: Of all children who were discharged from foster care to reunification in the 12-month target period, and who had been in foster care for 8 days or longer, what was the median length of stay in months from the date of the latest removal from home until the date of discharge to reunification?

This measure includes children who meet all of the following criteria:

• The child is in foster care for 8 days or longer;

• The child's date of discharge from foster care occurs during the 12-month target period; and

• The child has a reason for discharge, and the reason is either “reunification with parents or primary caretakers” or “living with other relatives.”

Median length of stay is calculated based on one of the following procedures:

• The difference between the child's date of discharge from foster care and the child's date of latest removal from home; or

• The child's “length of stay” in foster care using the Trial Home Visit adjustment calculation.

Individual Measure C1.3: Of all children who entered foster care for the first time in the 6-month period just prior to the target 12-month period, and who remained in foster care for 8 days or longer, what percent were discharged from foster care to reunification in less than 12 months from the date of latest removal from home?

The denominator for this measure includes children who meet all of the following criteria:

• The child's date of first removal from home occurs during the 6-month period just prior to the 12-month target period, and

• The child is in foster care for 8 days or longer.

The numerator for this measure includes children who meet all of the criteria for inclusion in the denominator and who also meet at least one of the following criteria:

• The child has a date of discharge from foster care that is less than 12 months from the date of first removal from home, and the reason for discharge is either “reunification with parents or primary caretakers” or “living with other relatives;” or

• Using the Trial Home Visit adjustment, the child's calculated length of stay in foster care is less than 12 months from the date of the child's first removal from home.

Component B: Permanency of Reunification

Individual Measure C1.4: Of all children who were discharged from foster care to reunification in the 12-month period prior to the target 12-month period, what percent re-entered foster care in less than 12 months from the date of discharge?

Individual Measure C1.4: Of all children who were discharged from foster care to reunification in the 12-month period prior to the target 12-month period, what percent re-entered foster care in less than 12 months from the date of discharge?

The denominator for this measure includes children who meet all of the following criteria:

• The child's date of discharge from foster care occurs during the 12-month period just prior to the 12-month target year; and

• At the time of the date of discharge, the reason for discharge is either “reunification with parents or primary caretakers” or “living with other relatives.”

The numerator for this measure includes children who meet all of the criteria for inclusion in the denominator and also meet the following criterion:

• The child's date of latest removal from home is less than 12 months from the date of discharge from foster care that occurred during the 12-month period just prior to the 12-month target year.

Composite 2: Timeliness of Adoptions

Component A: Timeliness of Adoptions of Children Exiting Foster Care

Individual Measure C2.1: Of all children who were discharged from foster care to a finalized adoption during the 12-month target period, what percent were discharged in less than 24 months from the date of the latest removal from home?

The denominator for this measure includes children who meet all of the following criteria:

• The child has a date of discharge from foster care during the 12-month target period, and

• The reason for discharge is adoption.

The numerator for this measure includes children who meet all of the criteria for inclusion in the denominator, and also meet the following criterion:

• The child's date of discharge is less than 24 months from the date of latest removal from home.

Individual Measure C2.2: Of all children who were discharged from foster care to a finalized adoption during the 12-month target period, what was the median length of stay in foster care in months from the date of latest removal from home to the date of discharge to adoption?

This measure includes children who meet all of the following criteria:

• The child's date of discharge from foster care occurs during the 12-month target period; and

• The reason for discharge is adoption.

The “length of stay” in foster care is the time difference between the date of discharge from foster care to adoption and the date of the latest removal from home.

Component B: Progress Toward Adoption of Children Who Have Been in Foster Care for 17 Months or Longer

Individual Measure C2.3: Of all children in foster care on the first day of the 12-month target period who were in foster care for 17 continuous months or longer, what percent were discharged from foster care to a finalized adoption by the last day of the 12 month target period? (The denominator for this measure excludes children who, by the last day of the 12-month target period, are discharged from foster care with a discharge reason of reunification with parents or primary caretakers, living with other relatives, or guardianship.)

The denominator for this measure includes children who meet all of the following criteria:

• The child was in foster care for 17 or more continuous months or longer as of the first day of the 12-month target period, and

• By the last day of the 12-month target period, the child had not discharged from foster care with a discharge reason of reunification with parents or primary caretakers, living with other relatives, or guardianship.

The numerator for this measure includes children who meet all of the criteria for inclusion in the denominator and also meet all of the following criteria:

• The child's date of discharge from foster care occurs during the 12-month target period (including the first day of the target period); and

• The reason for discharge is adoption.

Individual Measure C2.4: Of all children in foster care on the first day of the 12-month target period who were in foster care for 17 continuous months or longer, and who were not legally free for adoption prior to that day, what percent became legally free for adoption during the first 6-months of the 12-month target period?

A child is considered to be legally free for adoption if there is a parental rights termination date reported to AFCARS for both mother and father. In AFCARS, if a parent is deceased, the date of death is to be reported as the parental rights termination date.

The denominator for this measure includes children who meet ALL of the following criteria:

• The child was in foster care for 17 continuous months or longer as of the first day of the 12-month target period, and

• The child was not legally free for adoption prior to the first day of the 12-month target period.

The denominator for this measure excludes any child who did not become legally free during the first 6 months of the target year, but who, during that 6-month period, is discharged from foster care with a discharge reason of reunification with parents or primary caretakers, living with other relatives, or guardianship.

The numerator for this measure includes children who meet all of the criteria for inclusion in the denominator and also meet the following criterion:

• The child became legally free for adoption during the first 6 months of the 12-month target period (including the first and last day of the 6-month period).

Component C: Timeliness of Adoptions of Children Who Are Legally Free for Adoption

Individual Measure C2.5: Of all children who became legally free for adoption during the 12 months prior to the target 12-month period, what percent were discharged from foster care to a finalized adoption in less than 12 months from the date of becoming legally free?

The denominator for this measure includes children who meet all of the following criteria:

• The child has a parental rights termination date for both mother and father, and

• The latest parental rights termination date occurs in the 12-months just prior to the 12-month target period.

The numerator for this measure includes children who meet all of the criteria for inclusion in the denominator and also meet the following criteria:

• The child has a date of discharge from foster care that occurs in less than 12 months of the latest date of parental rights termination, and

• The reason for discharge is adoption.

Composite 3: Achieving Permanency for Children in Foster Care for Long Periods of Time

Component A: Achieving Permanency for Children in Foster Care for Extended Periods of Time

Individual Measure C3.1: Of all children who were in foster care for 24 months or longer on the first day of the 12-month target period, what percent were discharged to a permanent home by the last day of the 12-month period and prior to their 18th birthday?

A child is considered as discharged to a permanent home if the discharge reason reported to AFCARS is reunification with parents or primary caretakers, living with other relatives, guardianship, or adoption.

The denominator for this measure includes children who meet the following criterion:

• The child is in foster care for 24 continuous months or longer on the first day of the 12-month target period.

The numerator for this measure includes children who meet the criterion for the denominator and also meet all of the following criteria:

• The child's date of discharge from foster care occurs during the 12-month target period;

• The child's reason for discharge is reunification with parents or primary caretakers, living with other relatives, guardianship, or adoption; and

• The date of discharge from foster care occurs before the child's 18th birthday.

Individual Measure C3.2: Of all children who were discharged from foster care during the 12-month target period, and who were legally free for adoption (i.e., there is a parental rights termination date for both parents) at the time of discharge, what percent were discharged to a permanent home prior to their 18th birthday?

A child is considered as discharged to a permanent home if the discharge reason reported to AFCARS is reunification with parents or primary caretakers, living with other relatives, guardianship, or adoption.

The denominator for this measure includes children who meet all of the following criteria:

• The child has a parental rights termination date for both mother and father at the time of discharge from foster care, and

• The child has a date of discharge from foster care that occurs during the 12-month target period.

The numerator for this measure includes children who meet all of the criteria for inclusion in the denominator, and also meet all of the following criteria:

• The child has a discharge reason of reunification with parents or primary caretakers, living with other relatives, guardianship, or adoption; and

• The date of discharge is prior to the child's 18th birthday.

Component B: Children Growing Up in Foster Care

Individual Measure C3.3: Of all children who either (1) were, prior to age 18, discharged from foster care during the 12-month target period with a discharge reason of emancipation, or (2) reached their 18th birthday while in foster care but had not yet been discharged from foster care, what percent were in foster care for 3 years or longer?

The denominator for this measure includes children who meet one of the following criteria:

• The child has a date of discharge from foster care during the 12-month target period that occurs prior to the child's 18th birthday and the reason for discharge is “emancipation;” or

• The child reaches his or her 18th birthday during the 12-month target period and is in foster care at the time of the birthday.

The numerator for this measure includes children who meet one of the criteria for inclusion in the denominator and also meet one of the following criteria:

• The time from the date of the latest removal from home and the date of discharge is equal to, or greater than, 3 years; or

• The time from the date of the latest removal from home and the date of the child's 18th birthday is equal to, or greater than, 3 years.

In AFCARS, emancipation is defined as “the child reached majority according to State law by virtue of age, marriage, etc.”

Composite 4: Placement Stability

Individual Measure C4.1: Of all children who were served in foster care during the 12-month target period, and who were in foster care for at least 8 days but less than 12 months, what percent had two or fewer placement settings?

The denominator for this measure includes children who meet all of the following criteria:

• The child is in foster care at some time during the 12-month target period, and

• The child's length of stay in foster care during the most recent foster care episode is at least 8 days but less than 12 months.

The numerator for this measure includes children who meet all of the criteria for inclusion in the denominator and also meet the following criterion:

• The child's number of placement settings during this removal episode does not exceed two (2).

Individual Measure C4.2: Of all children who were served in foster care during the 12-month target period, and who were in foster care for at least 12 months but less than 24 months, what percent had two or fewer placement settings?

The denominator for this measure includes children who meet all of the following criteria:

• The child is in foster care at some time during the 12-month target period, and

• The child's length of stay in foster care during the most recent foster care episode is at least 12 months but less than 24 months.

The numerator for this measure includes children who meet all of the criteria for inclusion in the denominator and also meet the following criterion:

• The child's number of placement settings during this removal episode does not exceed two (2).

Individual Measure C4.3: Of all children who were served in foster care during the 12-month target period, and who were in foster care for at least 24 months, what percent had two or fewer placement settings?

The denominator for this measure includes children who meet all of the following criteria:

• The child is in foster care at some time during the 12-month target period, and

• The child's length of stay in foster care during the most recent foster care episode is at least 24 months.

The numerator for this measure includes children who meet all of the criteria for inclusion in the denominator and also meet the following criterion:

• The child's number of placement settings during this removal episode does not exceed two (2).

Correction 2

In the Federal Register of June 7, 2006, Table 1 on page 32980 showing the range, percentiles, and national standards for the data indicators to be used in the second round of the CFSR is to be replaced by Table 1 in this current notice. The ranges, percentiles, and national standards for all six data indicators (the two safety-related indicators and the four permanency-related indicators) are different than those reported in the June 7 Federal Register. For the safety-related indicators, the differences are due to a change in the procedure for calculating the sampling error used for establishing the national standards. For the permanency-related composite indicators, the differences are a result of an increased precision of the measures and/or a change in the procedure for calculating the sampling error used for establishing the national standards (See correction 7 for information on the change in calculation of the sampling error.)

Correction 3

In the Federal Register of June 7, 2006, on page 32973, in the second column, the definition of the term “foster parent,” as it is used by the NCANDS has been changed. The new definition is the following: An individual who provides a home for orphaned, abused, neglected, delinquent, or disabled children under the placement, care or supervision of the State. The individual may be a relative or non-relative and need not be licensed by the State agency to be considered a foster parent.

Correction 4

In the Federal Register of June 7, 2006, page 32981, column A, under the heading Attachment A: List of Data to be Included in the State Data Profile, the descriptive information currently included in the State Data Profile from NCANDS (section A) did not include all of the information included in the profile. This section should be replaced with the following text:

Descriptive Information Currently Included in the State Data Profile

A. Descriptive Information From the National Child Abuse and Neglect Data System (NCANDS)

1. The number of reports alleging maltreatment of children that reached a disposition within the reporting year, the total number of reports, the number of unique children associated with reports alleging maltreatment, and the number of “duplicate children.”

2. The numbers and percentages of reports that were given a disposition of Substantiated and Indicated, Unsubstantiated, or Other, and the numbers and percentages of duplicate and unique children.

3. The numbers and percentages of unique and duplicate child victim cases opened for services, based on the number of victims during the reporting period under review.

4. The numbers and percentages of duplicate and unique victims entering foster care in response to a child abuse/neglect report.

5. The number of child fatalities.

Correction 5

In the Federal Register of June 7, 2006, page 32985, second column, the text for section 10 did not accurately describe the final step in calculating the composite score. This section should be replaced by the following:

10. Generate the composite scores for each State. After the composite score for each county is calculated, that score is multiplied by the number of children served in foster care in that county during the 12-month target period. The result is a “weighted” county composite score. This “weighting” allows counties with larger foster care populations to make a greater contribution to the overall State score. The weighted county scores are then summed and divided by the total number of children served in foster care in all of the counties included in the calculation. The result is the State composite score.

Correction 6

In the Federal Register of June 7, 2006, page 32986, in column 1, information in the first bullet point was not included in the publication. The first bullet point should read as follows:

Set Bullets

• PCA does not compensate for measures that are currently misunderstood or inadequately defined; it compounds the existing weakness in each measure. It is incorrect to say that PCA compounds weaknesses in each measure. PCA provides a well understood empirical strategy for combining variables or measures. The main body of the Federal Register Announcement provides a response to concerns about the adequacy of the measures.

Correction 7

In the Federal Register of June 7, 2006, page 32986, column 3, the paragraph under the heading Establishing the National Standards should be replaced because of changes that ACF has made in the procedures for calculating the national standard. The text should read as follows:

Establishing the National Standard

The process for establishing the national standards on the composite scores differs from that used for the first round of the CFSR. In the first round of the CFSR, the procedure for establishing the national standard for each measure involved fitting the data to a normal curve based on a level of significance of .05, and adjusting for the 75th percentile by calculating the sampling error using the lower limit of a 95 percent confidence interval for estimating the population mean. ACF determined that this procedure was not appropriate for the second round of the CFSR. One concern was that using a level of significance of .05 would result in eliminating States at either end of the range of each of the State permanency composite data indicators and safety-related data indicators in order to fit the distribution to a normal curve. Consequently, not all States would be included in the calculation of the national standards. Although this was appropriate for the first round of the CFSR because of data quality problems at the time that the standards were established, these data quality problems are no longer as significant an issue. Another concern was that using the 95 percent confidence interval would result in a considerable reduction in the actual percentile represented by each of the permanency and safety standards.

To address the concern relevant to eliminating States from the calculation of the national standard, ACF changed the level of significance for fitting the data to a normal curve from .05 to .01. At this higher significance level, all States could be included in the fitted normal probability distribution for both the composite data indicators and the safety-related data indicators. Consequently, performance of all States was used to determine the national standards for all data indicators. To address the concern relevant to the considerable reduction in the actual percentile represented by the national standard for each of the indicators, the basis for calculating the sampling error was changed from the lower limit of 95 percent confidence interval to the lower limit of an 80 percent confidence interval. As a result of this change, the adjusted 75th percentile is close to the 69th percentile, with the percentile based on the distribution to the normal curve.

Correction 8

In the Federal Register of June 7, 2006, page 32986, Attachment B, table 1 showing the coefficients (weights) for the individual measures included in the permanency composites is to be replaced by Table 2 in this document. There are differences in the coefficients for the individual measures. The differences are due to changes in the syntax resulting from increasing the precision of the measures.

Dated: January 16, 2007.
Joan E. Ohl,
Commissioner, Administration on Children, Youth and Families.

Table A.—Data Indicators for the Child and Family Services Review
[Ranges, medians, and national standards for the Child and Family Services Review (CFSR) data indicators*]
Data indicators | Range | Median** | National standard**
Data Indicators Associated With CFSR Safety Outcome 1—Children Are, First and Foremost, Protected From Abuse and Neglect
Of all children who were victims of a substantiated or indicated maltreatment allegation during the first 6 months of FY 2004, what percent were not victims of another substantiated or indicated maltreatment allegation within the 6-months following that maltreatment incident? (45 States) | 86.0-98.0 | 93.3 | 94.6 or higher.
Of all children served in foster care in FY 2004, what percent were not victims of a substantiated or indicated maltreatment by a foster parent or facility staff member during the fiscal year? (37 States) | 98.59-100 | 99.52 | 99.68 or higher.
Data Indicators Associated With CFSR Permanency Outcome 1—Children Have Permanency and Stability In Their Living Situations
Permanency Composite 1: Timeliness and Permanency of Reunification (47 States)*** | 50-150 | 113.7 | 122.6 or higher.
Component A: Timeliness of reunification****:
Measure C1.1: Of all children discharged from foster care to reunification in FY 2004 who had been in foster care for 8 days or longer, what percent were reunified in less than 12 months from the date of the latest removal from home? (This includes the “trial home visit adjustment.”) (51 States) | 44.3-92.5 | 69.9 | No Standard.
Measure C1.2: Of all children who were discharged from foster care to reunification in FY 2004, and who had been in foster care for 8 days or longer, what was the median length of stay in months from the date of the latest removal from home until the date of discharge to reunification? (This includes the “trial home visit adjustment.”) (51 States) | 1.1-13. 7 | 6.5 | No Standard.
Measure C1.3: Of all children who entered foster care for the first time in the 6-month period just prior to FY 2004, and who remained in foster care for 8 days or longer, what percent were discharged from foster care to reunification in less than 12 months from the date of latest removal from home? (This includes the “trial home visit adjustment.”) (47 States) | 17.7-68.9 | 39.4 | No Standard.
Component B: Permanency of reunification****:
Measure C14: Of all children who were discharged from foster care to reunification in the 12-month period prior to FY 2004 (i.e., FY 2003), what percent re-entered foster care in less than 12 months from the date of discharge? (47 States) | 1.6-29.8 | 15.0 | No Standard.
* The data shown are for the national standard target year of FY 2004. Each State will be evaluated against the standard on data relevant to its specific CFSR 12-month target period. The national standards will remain the same throughout the second round of the CFSR.
** The medians and the national standards for the safety and composite data indicators are based on an adjustment to the distribution using the sampling error for each data indicator. The medians and national standards for the composite data indicators are from a dataset that excluded counties in a State that did not have data for all measures within a particular composite. The range and medians for each individual measure reflect the distribution of all counties that had data for that particular measure, even if that county was not included in the overall composite calculation.
*** A State was excluded from the calculation of the composite national standard if (1) it did not submit FIPS codes in its AFCARS submissions (1 State), or (2) with regard to composite 1 and 2, it did not provide unique identifiers that would permit tracking children across fiscal years (4 States).
**** Children are included in the count of reunifications if the reason for discharge reported to AFCARS was either “reunification” or “live with relative.” They are not included in the count of “reunifications” if the reason for discharge reported to AFCARS was “guardianship,” even if the guardian is a relative.
Data Indicators Associated With CFSR Permanency Outcome 1—Children Have Permanency and Stability in Their Living Situations*
Permanency Composite 2: Timeliness of Adoptions (47 States) | 50-150 | 95.3 | 106.4 or higher.
Component A: Timeliness of adoptions of children discharged from foster care:
Measure C2.1: Of all children who were discharged from foster care to a finalized adoption during FY 2004, what percent were discharged in less than 24 months from the date of the latest removal from home? (51 States) | 6.4-74.9 | 26.8 | No Standard.
Measure C2.2: Of all children who were discharged from foster care to a finalized adoption during FY 2004, what was the median length of stay in foster care in months from the date of latest removal from home to the date of discharge to adoption? (51 States) | 16.2-55.7 | 32.4 | No Standard.
Component B: Progress toward adoption for children in foster care for 17 months or longer:
Measure C2.3: Of all children who were in foster care on the first day of FY 2004, and who were in foster care for 17 continuous months or longer, what percent were discharged from foster care to a finalized adoption by the last day of FY 2004? The denominator for this measure excludes children who, by the end of FY 2004, were discharged from foster care with a discharge reason of live with relative, reunification, or guardianship. (51 States) | 2.4-26.2 | 20.2 | No Standard.
Measure C2.4: Of all children who were in foster care on the first day of FY 2004 for 17 continuous months or longer, and who were not legally free for adoption prior to that day, what percent became legally free for adoption during the first 6 months of FY 2004? (Legally free means that there was a parental rights termination date reported to AFCARS for both mother and father.) The denominator for this measure excludes children who, by the last day of the first 6 months of FY 2004, were not legally free, but had been discharged from foster care with a discharge reason of live with relative, reunification, or guardianship. (51 States) | 0.1-17.8 | 8.8 | No Standard.
Component C: Progress toward adoption of children who are legally free for adoption:
Measure C2.5: Of all children who became legally free for adoption during FY 2003 (i.e., there was a parental rights termination date reported to AFCARS for both mother and father), what percent were discharged from foster care to a finalized adoption in less than 12 months of becoming legally free? (47 States) | 20.0-100 | 45.8 | No Standard.
* The data shown are for the national standard target year of FY 2004. Each State will be evaluated against the standard on data relevant to its specific CFSR 12-month target period. The national standards will remain the same throughout the second round of the CFSR.
** The medians and the national standards for the safety and composite data indicators are based on an adjustment to the distribution using the sampling error for each data indicator. The medians and national standards for the composite data indicators are from a dataset that excluded counties in a State that did not have data for all measures within a particular composite. The range and medians for each individual measure reflect the distribution of all counties that had data for that particular measure, even if that county was not included in the overall composite calculation.
*** A State was excluded from the calculation of this composite either because (1) it did not submit FIPS codes in its AFCARS submissions (1 State), or (2) with regard to composite 1 and 2, it did not provide unique identifiers that would permit tracking children across fiscal years (4 States).
Data Indicators Associated With CFSR Permanency Outcome 1—Children Have Permanency and Stability in Their Living Situations*
Permanency Composite 3: Achieving Permanency for Children in Foster Care for Long Periods of Time (51 States)*** | 50-150 | 112.7 | 121.7 or higher.
Component A: Permanency for children in foster care for long periods of time:
Measure C3.1: Of all children who were in foster care for 24 months or longer on the first day of FY 2004, what percent were discharged to a permanent home prior to their 18th birthday and by the end of the fiscal year? A child is considered discharged to a permanent home if the discharge reason is adoption, guardianship, reunification, or live with relative. (51 States) | 8.1-35.3 | 25.0 | No Standard.
Measure C3.2: Of all children who were discharged from foster care in FY 2004 who were legally free for adoption at the time of discharge (i.e., there was a parental rights termination date reported to AFCARS for both mother and father), what percent were discharged to a permanent home prior to their 18th birthday? A child is considered discharged to a permanent home if the discharge reason is adoption, guardianship, reunification, or live with relative. (51 States) | 84.9-100 | 96.8 | No Standard.
Component B: Children growing up in foster care:
Measure C3.3: Of all children who either (1) were discharged from foster care in FY 2004 with a discharge reason of emancipation, or (2) reached their 18th birthday in FY 2004 while in foster care, what percent were in foster care for 3 years or longer? (51 States) | 15.8-76.9 | 47.8 | No Standard.
Permanency Composite 4: Placement Stability (51 States) | 50-150 | 93.3 | 101.5 or higher.
Measure C4.1: Of all children who were served in foster care during FY 2004, and who were in foster care for at least 8 days but less than 12 months, what percent had two or fewer placement settings? (51 States) | 55.0-99.6 | 83.3 | No Standard.
Measure C4.2: Of all children who were served in foster care during FY 2004, and who were in foster care for at least 12 months but less than 24 months, what percent had two or fewer placement settings? (51 States) | 27.0-99.8 | 59.9 | No Standard.
Measure C4.3: Of all children who were served in foster care during FY 2004, and who were in foster care for at least 24 months, what percent had two or fewer placement settings? (51 States) | 13.7-98.9 | 33.9 | No Standard.
* The data shown are for the national standard target year of FY 2004. Each State will be evaluated against the standard on data relevant to its specific CFSR 12-month target period. The national standards will remain the same throughout the second round of the CFSR.
** The medians and the national standards for the safety and composite data indicators are based on an adjustment to the distribution using the sampling error. The medians and national standards for the composite data indicators are from a dataset that excluded counties in a State that did not have data for all measures within a particular composite. The range and medians for each individual measure reflect the distribution of all counties that had data for that particular measure, even if that county was not included in the overall composite calculation.
*** A State was excluded from the calculation of this composite because it did not submit FIPS codes in its AFCARS submissions.

Table B.—Coefficients (Weights) for Individual Measures in the CFSR Data Composites
[Coefficients (weights) for individual measures]
Composites and Individual Measures* | Components and weights: Component A: Timeliness of reunification | Components and weights: Component B: Permanency of reunification | Components and weights: Component C: Not applicable to this composite
Permanency Composite 1: Timeliness and Premanency of Reunification** (1,975 Counties):
Measure C1.1: Of all children who were discharged from foster care to reunification in FY 2004, and who had been in foster care for 8 days or longer, what percent were reunified in less than 12 months from the date of the latest removal from home? (This includes the “trial home visit adjustment.”) (51 States) | 0.462 | 0.085
Measure C1.2: Of all children who were discharged from foster care to reunification in FY 2004, and who had been in foster care for 8 days or longer, what was the median length of stay in months from the date of the latest removal from home until the date of discharge to reunification? (This includes the “trial home visit adjustment.”) (51 States) | 0.451 | 0.070 |
Measure C1.3: Of all children who entered foster care for the first time in the 6-month period just prior to FY 2004, and who remained in foster care for 8 days or longer, what percent were discharged from foster care to reunification in less than 12 months from the date of latest removal from home? (This includes the “trial home visit adjustment.”) (47 States) | 0.295 | −0.005 |
Measure C1.4: Of all children who were discharged from foster care to reunification in the 12-month period prior to FY 2004, what percent re-entered foster care in less than 12 months from the date of discharge? (47 States) | 0.129 | 1.025 |
*The coefficients were determined from a national data set incorporating only those counties that had data for all of the individual measures included in a particular composite. This data set includes those “counties” constructed by combining small counties in a State to reach the requirement of at least 50 children served in foster care during FY 2004.
**Children are included in the count of reunifications if the reason for discharge reported to AFCARS is either “reunify” or “live with relative.” They are not included if the reason for discharge is guardianship, even if the guardian is a relative.

Composites and individual measures | Components and weights: Length of time in foster care to adoption | Components and weights: Progress toward adoption—children in foster care for 17 months or longer | Components and weights: Timeliness of adoptions for children who are legally free
Permanency Composite 2: Timeliness of Adoptions (1,512 Counties)*:
Measure C2.1: Of all children who were discharged from foster care to a finalized adoption during FY 2004, what percent were discharged in less than 24 months from the date of the latest removal from home? (51 States) | 0.533 | −0.032 | −0.026
Measure C2.2: Of all children who were discharged from foster care to a finalized adoption during FY 2004, what was the median length of stay in foster care in months from the date of latest removal from home to the date of discharge to adoption? (51 States) | 0.551 | 0.106 | −0.032
Measure C2.3: Of all children in foster care on the first day of FY 2004 who were in foster care for 17 continuous months or longer, what percent were discharged from foster care to a finalized adoption by the last day of FY 2004? The denominator for this measure excludes children who, by the end of FY 2004 had been discharged from foster care with a discharge reason of reunification, live with relative, or guardianship. (51 States) | −0.087 | 0.526 | 0.255
Measure C2.4: Of all children in foster care on the first day of FY 2004 who were in foster care for 17 continuous months or longer, and who were not legally free for adoption prior to that day, what percent became legally free for adoption during the first 6 months of FY 2004? (Legally free means that there was a parental rights termination date reported to AFCARS for both mother and father.) The denominator for this measure excludes children who, by the last day of the first 6 months of FY 2004, were not legally free but had been discharged from foster care with a discharge reason of reunification, live with relative, or guardianship. (51 States) | 0.140 | 0.699 | −0.256
Measure C2.5: Of all children who became legally free for adoption during FY 2003 (i.e., there was a parental rights termination date reported to AFCARS for both mother and father), what percent were discharged from foster care to a finalized adoption in less than 12 months of becoming legally free? (47 States) | −0.030 | −0.059 | 0.930
*The coefficients were determined from a national data set that incorporated only those counties that had data for all of the individual measures included in a particular composite. This data set includes those “counties” constructed by combining small counties in a particular State to reach the requirement of at least 50 children served in foster care during FY 2004.

Composites and individual measures | Component A: Children discharged to permanent homes | Component B: Children discharged to emancipation | Component C: Not applicable to this composite
Permanency Composite 3: Achieving permanency for children in foster care for long periods of time (1,681 Counties)*:
Measure C3.1: Of all children who were in foster care for 24 months or longer on the first day of FY 2004, what percent were discharged to a permanent home prior to their 18th birthday and by the end of the fiscal year? A child is considered discharged to a permanent home if the discharge reason is adoption, guardianship, reunification, or live with relative. (51 States) | 0.545 | 0.137 | No Standard.
Measure C3.2: Of all children who were discharged from foster care in FY 2004, and who were legally free for adoption at the time of discharge (i.e., there was a parental rights termination date reported to AFCARS for both mother and father), what percent were discharged to a permanent home prior to their 18th birthday? A child is considered discharged to a permanent home if the discharge reason is adoption, guardianship, reunification, or live with relative. (51 States) | 0.746 | −0.220 | No Standard.
Measure C3.3: Of all children who either (1) were, prior to their 18th birthday, discharged from foster care in FY 2004 with a discharge reason of emancipation, or (2) reached their 18th birthday in FY 2004 while in foster care, what percent were in foster care for 3 years or longer? (51 States) | −0.108 | 0.979 | No Standard.

| Placement stability | Not applicable for this composite | Not applicable for this composite
Permanency Composite 4: Placement stability (2,140 Counties)*:
Measure C4.1: Of all children who were served in foster care during FY 2004, and who were in foster care for at least 8 days but less than 12 months, what percent had two or fewer placement settings? (51 States) | 0.398 |  |
Measure C4.2: Of all children who were served in foster care during FY 2004, and who were in foster care for at least 12 months but less than 24 months, what percent had two or fewer placement settings? (51 States) | 0.417 |  |
Measure C4.3: Of all children who were served in foster care during FY 2004, and who were in foster care for at least 24 months, what percent had two or fewer placement settings? (51 States) | 0.400 |  |
*The coefficients were determined from a national data set that incorporated only those counties that had data for all of the individual measures included in a particular composite. This data set includes those “counties” constructed by combining small counties in a particular State to reach the requirement of at least 50 children served in foster care during FY 2004.

[FR Doc. E7-808 Filed 1-22-07; 8:45 am]

BILLING CODE 4184-01-P